DEPARTMENT OF COMMERCE

National Oceanic and Atmospheric Administration

DEPARTMENT OF THE INTERIOR

Fish and Wildlife Service

[I.D. 122800C]

Availability of a Final Environmental Impact Statement for the Tacoma Water Department Habitat Conservation Plan, King County, WA

AGENCIES: National Marine Fisheries Service (NMFS), National Oceanic and Atmospheric Administration, Commerce; Fish and Wildlife Service (FWS), Interior.

ACTION: Notice of availability.

SUMMARY: This notice announces the availability of a Final Environmental Impact Statement (FEIS) for public review. The FEIS addresses the proposed issuance of Incidental Take Permits (permits) to the City of Tacoma, WA, Department of Public Utilities, Water Division (Tacoma Water). The proposed permits relate to water withdrawal, forest management, and timber harvest on City of Tacoma lands in King County, WA. Tacoma Water submitted applications on December 23, 1999, to the FWS and the NMFS (together, the Services) for permits pursuant to the Endangered Species Act (the Act). The proposed permits would authorize take of the following endangered or threatened species incidental to otherwise lawful management activities: gray wolf (Canis lupis), bald eagle (Haliaeetus leucocephalus), marbled murrelet (Brachyramphus marmoratus marmoratus), northern spotted owl (Strix occidentalis caurina), grizzly bear (Ursus arctos), Canada lynx (Lynx canadensis), Puget Sound chinook salmon (Oncorhynchus tshawytscha), and bull trout (Salvelinus confluentus). Tacoma Water is also seeking coverage for 24 currently unlisted species under specific provisions of the permits, should these species be listed in the future. The duration of the proposed permits is 50 years. This notice is provided pursuant to the ESA, and National Environmental Policy Act (NEPA) regulations.

DATES: We will issue a Record of Decision and make a final permit decision no sooner than 30 days after publication of this notice.

ADDRESSES: See SUPPLEMENTARY INFORMATION for addresses of locations where you may review copies of the documents.

FOR FURTHER INFORMATION CONTACT: Mr. Tim Romanski, Project Biologist, FWS, 510 Desmond Drive. S.E., Suite 102, Lacey, Washington, 98503-1273, (360) 753-5823; or Mike Grady, Project Biologist, NMFS, 7600 Sand Point Way NE, Bldg. 1, Seattle, Washington, 98115-0070, (206) 526-4645.

SUPPLEMENTARY INFORMATION:

Availability of Documents

Copies of the Statement, and all associated documents are available for review at the following libraries:

The Olympia Timberland Library, Reference Desk, 313 8th Avenue SE, Olympia, WA, (360)352-0595

Tacoma Main Public Library, 1102 Tacoma Avenue South, Tacoma, WA, (253)591-5666

Enumclaw City Library, 1700 1st Street, Enumclaw, WA, (360)825-2938; Auburn Public Library, 808 9th Street SE, Auburn, WA, (253)931-3918

The Seattle Public Library, Government Publications Desk, 1000 4th Avenue, Seattle, WA, (206)386-4636.

The documents are also available electronically on the World Wide Web at http://www.r1.fws.gov/. Requests for documents or CD ROMs should be made by calling the FWS at (360)534-9330.

Section 9 of the Act and Federal regulations prohibit the “taking” of a species listed as endangered or threatened. The term take is defined under the Act to mean harass, harm, pursue, hunt, shoot, wound, kill, trap, capture, or collect, or to attempt to engage in any such conduct. Harm is defined by the FWS to include significant habitat modification or degradation where it actually kills or injures wildlife by significantly impairing essential behavioral patterns, including breeding, feeding, and sheltering (50 CFR 17.3). The NMFS definition of harm includes significant habitat modification or degradation where it actually kills or injures fish or wildlife by significantly impairing essential behavioral patterns, including breeding, spawning, rearing, feeding, and sheltering (64 FR 60727, November 8, 1999).

The Services may issue permits, under limited circumstances, to take listed species incidental to, and not for the purpose of, otherwise lawful activities. FWS regulations governing permits for endangered species are found at 50 CFR 17.22; and, regulations governing permits for threatened species are found at 50 CFR 17.32. NMFS regulations governing permits for threatened and endangered species are found at 50 CFR 222.307.

Background

Tacoma Water owns land and conducts management activities in the Green River Watershed in King County, WA. Management activities include the following: (1) operation of a water diversion dam and associated facilities (Headworks) on the Green River; (2) forest management on approximately 14,888 acres (approximately 6025 hectares)of land upstream of the Headworks diversion dam on both sides of the river; and (3) well field operations (North Fork Well Field) located approximately 5 miles (8 kilometers) upstream of the Headworks. Tacoma Water operates and manages the Headworks, watershed lands, and the North Fork Well Field as the principal source of municipal and industrial water for the City of Tacoma and portions of Pierce and King Counties. Howard Hanson Dam (Dam) and Howard Hanson Reservoir (Reservoir), owned and operated by the Army Corps of Engineers (Corps), are also located on the Green River, upstream of the Headworks. City lands in the watershed are adjacent to the Dam and Reservoir.

Current trends in planned population growth within the Puget Sound region create a need for Tacoma Water to explore possibilities for increasing its water supply capabilities. To meet forecasted demands, Tacoma has developed two separate but related plans. The first of these, the Second Supply Project, involves improvements at the Headworks and the construction of a 33.5-mile (53.9 Kilometers) long pipeline from the Headworks to the City of Tacoma. Upstream fish passage around Tacoma's Headworks and the Dam would be provided by the City of Tacoma as partial mitigation for the Second Supply Project. This project is the subject of a State Environmental Policy Act review in a document entitled “Final Supplemental Environmental Impact Statement for the Second Supply Project, October 18, 1994,” prepared by Tacoma Water. The second related plan was developed in conjunction with the Corps (and in cooperation with the Services, the Washington Department of Fish and Wildlife, Washington Department of Ecology, and the Muckleshoot Indian Tribe), to increase the volume of water stored behind the Dam during non-flood control periods (late spring, summer, and early fall). Known as the Additional Water Storage Project, this plan incorporates restoration and mitigation measures (including downstream fish passage) to alleviate the historical barrier to migrating salmon created by the Dam. The size of the Dam will not change as a result of the Additional Water Storage Project. This Additional Water Storage Project is the subject of a NEPA review in a document entitled “Additional Water Storage Project, Final Feasibility Study Report and EIS, Howard Hanson Dam, Green River, Washington, August, 1998,” prepared by the Seattle District of the Corps.

Tacoma Water’s activities associated with the Second Supply Project, the Additional Water Storage Project, and other management activities on the City’s watershed lands have the potential to impact species subject to protection under the Act. Section 10 of the Act contains provisions for the issuance of Incidental Take Permits to non-Federal landowners for the take of endangered and threatened species, provided the take is incidental to otherwise lawful activities, and will not appreciably reduce the likelihood of the survival and recovery of the species in the wild. In addition, the applicant must prepare and submit to the Services for approval an Habitat Conservation Plan(HCP) containing a program for minimizing and mitigating, to the maximum extent practicable, all take associated with the proposed activities. The applicant must also ensure that adequate funding for the Plan will be provided.

Tacoma Water has developed an HCP with technical assistance from the Services, to obtain permits for their activities in the Green River Watershed. Activities proposed for coverage under the permits include the following.

(1) Water withdrawal at the Headworks for Municipal and Industrial Water Supply. This withdrawal would reduce flows, have concomitant habitat effects downstream, include the bypass of fish at the Headworks intake, and inundate the small impoundment area.

(2) Water withdrawal from the North Fork Well Field for Municipal and Industrial Water Supply, which would potentially reduce flows in the North Fork Green River above the Reservoir.

(3) Construction of Headworks improvements (anticipated to occur during a 2- year period).

Such construction would cause:

(a) bypassing of fish at the Headworks intake during construction;

(b) raising the existing diversion dam by approximately 6.5 ft (approximately 2 meters) which would extend the inundation pool to about 2,570 ft (approximately 783 meters) upstream of the Headworks diversion;

(c) realigning and enlarging the existing intake and adding upgraded fish screens and bypass facilities for downstream passage;

(d) reshaping the Green River channel downstream of the existing diversion to accommodate the installation of an efficient trap-and-haul facility for upstream fish passage;

(e) installing a new trap-and-haul facility for upstream fish passage; and,

(f) installation, monitoring, and maintenance of the instream structures in the impoundment for the Headworks dam raise fisheries mitigation.

(4) Operating a downstream fish bypass facility at the Headworks.

(5) Tacoma watershed forest management activities, consisting of:

(a) watershed patrol and inspection;

(b) forest road construction, maintenance, and use;

(c) forest road culvert removal, replacement, and maintenance;

(d) timber harvest and hauling; and,

(e) silvicultural activities (e.g., planting, thinning, and inventorying trees).

(6) Monitoring of downstream fish passage through a proposed fish passage facility at the Dam, associated with the Additional Water Supply Project.

(7) Monitoring and maintenance of Additional Water Supply Project fish habitat restoration projects and Additional Water Supply Project fish and wildlife habitat mitigation projects.

(8) Potential restoration of anadromous fish above the Dam by trapping and hauling adults returning to the Headworks, and possible planting of hatchery juveniles if found to be beneficial to restoration.

The Services formally initiated an environmental review of the project through a Federal Register notice on August 21, 1998 (63 FR 44918). This notice also announced a 30-day public scoping period during which other agencies, tribes, and the public were invited to provide comments and suggestions regarding issues and alternatives to be considered. A second Federal Register notice was published following the scoping period on January 20, 1999 (64 FR 3066), announcing the decision to prepare an Environmental Impact Statement. A Draft Environmental Impact Statement (DEIS) was subsequently produced and made available for a 60-day public comment period on January 14, 2000 (65 FR 2390). The comment period was extended for 17 days to March 14, 2000 (65 FR 13947), in direct response to requests from the public. This resulted in a total comment period of 77 days. Comments received on the DEIS and responses to those comments are included in the FEIS.

The analyses in the FEIS are done in two parts; one covering the alternatives for water withdrawal activities, and the other covering alternatives for land management activities in the upper watershed. Three water withdrawal alternatives are analyzed in detail, including: (1) the no action alternative; (2) the proposed HCP alternative; and, (3) an alternative involving the construction of a new water withdrawal facility approximately 30 miles downstream of the existing Tacoma Headworks. Four additional water withdrawal options were identified during scoping, but they are not analyzed in detail as alternatives to the proposed action because they would not accomplish Tacoma’s objective of meeting current and future water demands, and/or because highly speculative information would be required to adequately analyze impacts.

Three alternatives are analyzed for Tacoma Water’s watershed management, including: (1) the no action alternative; (2) the proposed HCP alternative; and, (3) a no commercial timber harvest alternative. A fourth watershed management option was identified during public scoping, but it was not analyzed in detail as an alternative to the proposed action because it would not accomplish Tacoma’s objective of managing its watershed lands to protect water quality. Lastly, a fifth alternative was identified during public review of the DEIS, involving the state Forests and Fish Report. However, this was not fully analyzed because the No Action and proposed conservation measures surpassed this report, due to agreements Tacoma Water has with other stakeholders.

All water withdrawal and watershed land management alternatives (except the no action alternatives) would provide incidental take coverage for the same 32 fish and wildlife species. These include the following listed species: gray wolf, bald eagle, marbled murrelet, northern spotted owl, grizzly bear, Canada lynx, Puget Sound chinook salmon, and the bull trout. Coverage is also being requested for 24 currently unlisted species (including anadromous and resident fish) under specific provisions of the permits, should these species be listed in the future. The duration of the proposed permits and Plan is 50 years.

This notice is provided pursuant to section 10(a) of the Act, and NEPA regulations. The Services will evaluate the application, associated documents, and comments submitted thereon to determine whether the application meets the requirements of the Act and the NEPA. If it is determined that the requirements are met, permits will be issued for the incidental take of all covered species.

Dated: December 28, 2000.
Daniel Diggs,
Acting Regional Director, Fish and Wildlife Service, Region 1, Portland, Oregon.
Dated: January 2, 2001.
Margaret Lorenz,
Acting Chief, Endangered Species Division, Office of Protected Resources, National Marine Fisheries Service.

[FR Doc. 01-374 Filed 1-4-01; 8:45 am]

BILLING CODE: 3510-22 -S, 4310-55 -S